FEDERAL RESERVE SYSTEM

Sunshine Act Meeting Notice

TIME AND DATE: 10:00 a.m., Friday, February 19, 2016.

PLACE: Marriner S. Eccles Federal Reserve Board Building, 20th and C Streets NW., Washington, DC 20551.

STATUS: Closed.

MATTERS TO BE CONSIDERED: Reserve bank personnel matters.

CONTACT PERSON FOR MORE INFORMATION: Michelle Smith, Director, or Dave Skidmore, Assistant to the Board, Office of Board Members at 202-452-2955.

SUPPLEMENTARY INFORMATION: You may contact the Board's Web site at http://www.federalreserve.gov for an electronic announcement that not only lists applications but also indicates procedural and other information about the meeting.

Dated: February 12, 2016.
Robert deV. Frierson,
Secretary of the Board.

[FR Doc. 2016-03386 Filed 2-12-16; 4:15 pm]

BILLING CODE 6210-01-P